DEPARTMENT OF COMMERCE

National Oceanic and Atmospheric Administration

RIN 0648-XC043

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and its Research Set-Aside Committee, Mackerel, Squid, and Butterfish Committee, and its Surfclam, Ocean Quahog Committee will hold public meetings.

DATES: The meetings will be held Monday June 11, 2012 through Thursday, June 14, 2012. See SUPPLEMENTARY INFORMATION for specific dates and times.

ADDRESSES: The meetings will be held at the Hilton New York, 1335 Avenue of the Americas, New York, NY 10019; telephone: (212) 586-7000.

Council address: Mid-Atlantic Fishery Management Council, 800 N. State St., Suite 201, Dover, DE 19901; telephone: 302-674-2331.

FOR FURTHER INFORMATION CONTACT: Christopher M. Moore, Ph.D. Executive Director, Mid-Atlantic Fishery Management Council; telephone: (302) 526-5255.

SUPPLEMENTARY INFORMATION:

Monday, June 11, 2012

The Research Set-Aside Committee (RSA) and NMFS will meet in a closed session from 1 p.m. until 3:30 p.m.

The Research Set-Aside Committee will meet from 3:30 p.m. until 5 p.m.

Tuesday, June 12, 2012

The Mackerel, Squid, and Butterfish Committee will meet from 9 a.m. until 12 p.m.

The Council will convene at 1 p.m.

The Mackerel, Squid, and Butterfish Committee will meet as a Committee of the Whole from 1 p.m. until 3 p.m. (2013 Specifications).

A NY Energy Initiatives Presentation will be held from 3 p.m. until 3:30 p.m.

Bureau of Energy Management (BOEM) presentations will be held from 3:30 p.m. until 4:30 p.m.

A discussion of Monkfish Amendment 6 will be held from 4:30 p.m. until 5 p.m.

The Listening Session will be held from 5 p.m. until 6 p.m.

Wednesday, June 13, 2012

Visioning will be discussed from 9 a.m. until 12 p.m.

The Mackerel, Squid and Butterfish Committee will meet as a Committee of the Whole (Amendment 14) from 1 p.m. until 3 p.m.

The Surfclam and Ocean Quahog Committee will meet as a Committee of the Whole from 3 p.m. until 4 p.m.

A Highly Migratory Species (HMS) presentation will be held from 4 p.m. until 5 p.m.

Thursday, June 14, 2012

A National Standard 1 Guidelines discussion will be held from 9 a.m. until 9:30 a.m.

A clean Ocean Action presentation will be held from 9:30 a.m. until 10 a.m.

A Standardized Bycatch Research Methodology (SBRM) presentation will be held from 10 a.m. until 10:30 a.m.

The Council will hold its regular Business Session from 10:30 a.m. until 12:30 p.m. to approve the April minutes, receive Organizational Reports, the New England Council Liaison Report, Executive Director's Report, Science Report, Committee Reports, and conduct any continuing and/or new business.

Agenda items by day for the Council's Committees and the Council itself are:

On Monday, June 11—The RSA Committee and NMFS will meet in a closed session to review the 2013 RSA proposals. The RSA will review staff recommendations for changes to the RSA program.

On Tuesday, June 12—the Mackerel, Squid, and Butterfish Committee will select Amendment 14 Alternatives to recommend to the Council. The Mackerel, Squid, and Butterfish Committee will meet a Committee of the Whole to develop 2013 quota specifications and associated management measures and review Scientific and Statistical Committee (SSC) recommendations on 2012 butterfish Allowable Biological Catch (ABC) and take any needed actions. Greg Capobianco of the NY Department of State will provide a NY Energy Initiatives presentation. There will be two presentations by Kim Skrupsky of Bureau of Energy Management (BOEM) and Dr. Christopher Clark of Cornell on seismic testing impacts associated with BOEM's Atlantic Geological and Geophysical Programmatic EIS. The Council will respond to a proposal to remove Individual Transferable Quotas (ITQs) from Monkfish Amendment 6. During the Listening Session a presentation on the effects of climate on fisheries resources of the Mid-Atlantic region will be presented by Jon Hare of NMFS.

On Wednesday, June 13—Discussion on the background and context of the Visioning project, review the objectives and methods for stakeholder data gathering presentation and discussion of stakeholder data report, and the proposal for the next phase of the visioning and strategic plan. The Mackerel, Squid, and Butterfish Committee will meet as a Committee of the Whole to select Amendment 14 alternatives to recommend to NMFS for implementation. The Surfclam and Ocean Quahog Committee will meet as a Committee of the Whole to review and consider changes to the 2013 quota specifications for surfclams and ocean quahogs and update PSP, data collection, 2012 survey, and stock assessment. There will be a presentation by Tom Warren of NMFS on HMS Amendment 7 Scoping (Bluefin tuna management).

On Thursday, June 14—NMFS proposal to review/revise National Standard 1 Guidelines will be discussed. There will be a presentation by Cindy Zipf, regarding Clean Ocean Action. Doug Potts of NMFS will provide a presentation on SBRM alternatives. The Council will hold its regular Business Session to approve the April 2012 minutes, receive Organizational Reports, the New England Council Liaison Report, the Executive Director's Report, Science Report, Committee Reports, and conduct any continuing and/or new business.

Special Accommodations

These meetings are physically accessible to people with disabilities. Requests for sign language interpretation or other auxiliary aid should be directed to M. Jan Saunders, (302) 526-5251, at least 5 days prior to the meeting date.

Dated: May 21, 2012.
Tracey L. Thompson,
Acting Director, Office of Sustainable Fisheries, National Marine Fisheries Service.

[FR Doc. 2012-12684 Filed 5-24-12; 8:45 am]

BILLING CODE 3510-22-P